DEPARTMENT OF DEFENSE

Department of the Navy

Notice of Extension of Public Comment Period for the Notice of Intent To Prepare the Commonwealth of the Northern Mariana Islands Joint Military Training Environmental Impact Statement/Overseas Environmental Impact Statement

AGENCY: Department of the Navy, DoD.

ACTION: Notice.

SUMMARY: Marine Corps Forces, Pacific (MARFORPAC), as the Executive Agent designated by the United States (U.S.) Pacific Command (PACOM), is extending the public scoping comment period for the Commonwealth of the Northern Mariana Islands (CNMI) Joint Military Training Environmental Impact Statement (EIS)/Overseas EIS (OEIS) until May 13, 2013. A Notice of Intent (NOI) was published in the Federal Register on Thursday, March 14, 2013 (Vol. 78, No. 50, Pages 16257-16259). The Notice announced the initial public scoping comment period, including three public scoping meetings that took place on Wednesday, April 10, 2013; Thursday, April 11, 2013 and Friday, April 12, 2013. The public scoping meetings provided an opportunity for the public to obtain additional information and provide comments on the proposed action. The NOI requested the submission of all public scoping comments to MARFORPAC by April 29, 2013 Chamorro Standard Time (ChST). With this Notice, MARFORPAC is extending the public scoping comment period until May 13, 2013 (ChST).

FOR FURTHER INFORMATION CONTACT: Please visit the project Web site or contact the CNMI Joint Military Training EIS/OEIS Project Manager by telephone at 808-472-1253 or by email via the project Web site (www.cnmijointmilitarytrainingeis.com).

SUPPLEMENTARY INFORMATION: Pursuant to section (102)(2)(c) of the National Environmental Policy Act (NEPA) of 1969, as implemented by the Council on Environmental Quality Regulations (40 Code of Federal Regulations parts 1500-1508), and Executive Order 12114, and United States Marine Corps NEPA implementing regulations in Marine Corps Order P5090.2A, MARFORPAC, as the Executive Agent designated by PACOM, announces its intent to prepare an EIS/OEIS to evaluate the potential impacts associated with preliminary alternatives for meeting PACOM Service Components' unfilled unit level and combined level military training requirements in the Western Pacific. The proposed action is to establish a series of live-fire and maneuver Ranges and Training Areas (RTAs) within the CNMI to meet this purpose.

Existing Department of Defense RTAs and support facilities in the Western Pacific, particularly those in the Mariana Islands, are insufficient to support PACOM Service Components' U.S. Code (U.S.C.) Title 10 training requirements for the region. The expansion of existing RTAs and construction of new RTAs will satisfy identified training deficiencies for PACOM forces that are based in or regularly train in the Mariana Islands. These RTAs will be available to U.S. forces and their allies on a continuous and uninterrupted schedule. These RTAs are needed to support ongoing operational requirements, changes to U.S. force structure and geographic positioning of forces, and U.S. training relationships with allied nations.

MARFORPAC, as the Executive Agent, has invited the Federal Aviation Administration; International Broadcasting Bureau; U.S. Army Corps of Engineers; National Marine Fisheries Service; U.S. Fish and Wildlife Service; and U.S. Department of Interior, Office of Insular Affairs, to participate as cooperating agencies in the preparation of the EIS/OEIS. MARFORPAC has also developed a Memorandum of Understanding with the military services regarding their support and engagement in the development of the EIS/OEIS.

More information on the proposed action can be found on the previously published NOI (see Federal Register on March 14, 2013 (Vol. 78, No. 50, Pages 16257-16259)). Federal, State, and local agencies, elected officials, and other interested parties and individuals, are invited and encouraged to review and comment on proposed action. Comments on the proposed action can be submitted via the project Web site (www.cnmijointmilitarytrainingeis.com) or submitted in writing to: Naval Facilities Engineering Command, Pacific, Attn: EV21, CNMI Joint Military Training EIS/OEIS Project Manager, 258 Makalapa Drive, Suite 100, JBPHH, HI 96860-3134.

All comments must be postmarked or electronically dated on or before May 13, 2013 (ChST).

C.K. Chiappetta,
Lieutenant Commander, Office of the Judge Advocate General, U.S. Navy. Federal Register Liaison Officer.

[FR Doc. 2013-09498 Filed 4-22-13; 8:45 am]

BILLING CODE 3810-FF-P